DEPARTMENT OF COMMERCE

International Trade Administration

A-588-810

Mechanical Transfer Presses From Japan: Final Results of Antidumping Duty Administrative Review and Revocation, In Part

AGENCY: Import Administration, International Trade Administration, Department of Commerce.

SUMMARY: On March 8, 2004, the Department of Commerce (the Department) published the preliminary results of its antidumping duty administrative review of, and preliminary determination not to revoke, in part, the antidumping duty order on mechanical transfer presses (MTPs) from Japan (69 FR 10657). This review covers entries of this merchandise into the United States during the period of February 1, 2002 through January 31, 2003.

We gave interested parties an opportunity to comment on our preliminary results. On May 14, 2004 we received a case brief from the respondents, Hitachi Zosen Corporation (HZC) and Hitachi Zosen Fukui Corporation (H&F). We received no other comments. Based on our review of the comments, we have made changes to our margin calculations, and are now revoking the order with respect to HZC/H&F (see section “Revocation Determination” below).

EFFECTIVE DATE: July 22, 2004.

FOR FURTHER INFORMATION CONTACT: Jacqueline Arrowsmith or Mark Hoadley, Office of Antidumping/Countervailing Duty Enforcement VII, Import Administration, International Trade Administration, U.S. Department of Commerce, 14th Street and Constitution Avenue, NW, Washington, DC 20230; telephone (202) 482-5255 or (202) 482-3148, respectively.

SUPPLEMENTARY INFORMATION:

Background

On March 8, 2004, the Department published the preliminary results of its administrative review of the antidumping duty order on MTPs from Japan. See Preliminary Results of Antidumping Duty Administrative Review and Preliminary Determination Not to Revoke, in-Part, 69 FR 10657 (March 7, 2003) (Preliminary Results). In the Preliminary Results, we found that U.S. sales were made below normal value (NV) by the respondent. We gave interested parties an opportunity to comment on our preliminary results. On March 9, 2004, we received ministerial error allegations from Hitachi Zosen Corporation (HZC) and its subsidiary, Hitachi Zosen Fukui Corporation (H&F). On April 5, 2004, we received a request for a hearing from HZC/H&F, which was subsequently withdrawn on June 22, 2004. On May 14, 2004, we received a case brief from HZC/H&F. The Department received no other comments and no other requests for a hearing. On June 29, 2004, we published a notice of extension of the final results of review until July 14, 2004. See Mechanical Transfer Presses from Japan: Extension of Time Limit for Final Results of Antidumping Administrative Review, (69 FR 38881). The Department has now completed this review in accordance with section 751 of the Tariff Act of 1930, as amended (the Act).

Scope of the Antidumping Duty Order

Imports covered by this antidumping duty order include mechanical transfer presses, currently classifiable under Harmonized Tariff Schedule of the United States (HTSUS) item numbers 8462.10.0035, 8466.94.6540 and 8466.94.8540 and formerly classifiable as 8462.99.8035, 8462.21.8085, and 8466.94.5040. The HTSUS subheadings are provided for convenience and customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled.

The Department published in the Federal Register several notices of scope rulings with respect to MTPs from Japan, determining that (1) spare and replacement parts are outside the scope of the order (see Notice of Scope Rulings, 57 FR 19602 (May 7, 1992)); (2) a destack feeder designed to be used with a mechanical transfer press is an accessory and, therefore, is not within the scope of the order (see Notice of Scope Rulings, 57 FR 32973 (July 24, 1992)); (3) the FMX cold forging press is within the scope of the order (see Notice of Scope Rulings, 59 FR 8910 (February 24, 1994)); and (4) certain mechanical transfer press parts exported from Japan are outside the scope of the order (see Notice of Scope Rulings, 62 FR 9176 (February 28, 1997)).

Comments from Interested Parties and Changes Since the Preliminary Results

HZC/H&F filed a timely allegation, in accordance with section 351.224(f) of the Department's regulations, that the Department made two ministerial errors that produced a positive (“above de minimis”) dumping margin in the Preliminary Results. HZC/H&F stated that, but for these two errors, the Department would have found that HZC/H&F had not sold the subject merchandise at less than NV in the Preliminary Results. First, HZC/H&F alleged that the Department applied an exchange rate from February 1, 2002 rather than the exchange rates for the dates of reported U.S. sales purchase order date. HZC/H&F explained that the February 1, 2002 date did not relate to the reviewed sales and appeared to be the result of a coding error in the program. The exchange rate applied significantly understated the U.S. selling prices for the subject sales, as well as the price adjustments.

HZC/H&F also alleged that the calculation of cost of production (COP) failed to incorporate home market indirect selling expenses. HZC/H&F goes on to explain that, as a result, COP was understated, and profit was overstated. HZC/H&F concluded that, if these two clerical errors were corrected, the Department would find that HZC/H&F's sales prices for MTPs shipped to the U.S. market in the 2002-2003 review period were above normal value. Thus, argues HZC/H&F, its margin should be zero, and the order should be revoked, in-part, according to the criteria outlined in 19 CFR 351.222(e)(1). No other comments were received.

After analyzing these allegations, the Department finds the two errors alleged by the respondents are ministerial errors; defined by section 351.224(f) of the Department's regulations as an error in performing an arithmetic function or a clerical error resulting from inaccurate copying, duplication or the like, and any other similar type of unintentional error which the Department considers ministerial. The exchange rate used in the preliminary results as HZC/H&F points out was incorrect. It did not reflect the dates of sale for the MTPs under review. The date used was the unintentional result of a mistake in editing the computer code. Home market indirect selling expenses were unintentionally omitted from the cost of production. Section 773(b)(B) of the Act directs the Department to include an amount for selling, general and administrative expenses in the calculation of COP. Thus, both of these errors are ministerial in nature.

Therefore, after recalculating the margin to correct these clerical errors, the final margin is de minimis.

Revocation Determination

In its timely submission of February 28, 2003, HZC/H&F requested, pursuant to 19 CFR 351.222(e)(1), partial revocation of the order with respect to its sales of MTPs. HZC/H&F (1) certified that it sold the merchandise in commercial quantities at not less than NV for a period of at least three consecutive years; (2) certified that, in the future, it will not sell the subject merchandise at less than NV; and, (3) agreed to immediate reinstatement under the order if the Department determines that, subsequent to revocation, it has sold the subject merchandise at not less than NV.

As discussed above, the Department has determined in these final results that no dumping occurred during the POR. Based upon our findings in this review and the final results of the two preceding reviews, HZC/H&F has demonstrated three consecutive years of sales at not less than normal value. Furthermore, we determine that HZC/H&F's sales of MTPs to the United States have been made in commercial quantities during these three segments of the proceeding. The Department has previously determined that when an order covers large-scale products, which are individually worth millions of dollars one sale may constitute a commercial quantity. See, e.g., Large Newspaper Printing Presses and Components Thereof, Whether Assembled or Unassembled, From Japan: Final Results of Antidumping Duty Administrative Review and Revocation in Part, (67 FR 2190) (January 16, 2002). HZC/H&F has sold one or more MTPs in each of these three administrative review periods; however, the details of these sales are business proprietary. Therefore, the analysis of HZC/H&F's sales and why we have determined that HZC/H&F's sales of MTPs were made in commercial quantities, is incorporated in the “Commercial Quantities” section of the Analysis Memorandum from Jacqueline Arrowsmith to the File, dated July 14, 2004. HZC/H&F also agreed in writing that it will not sell the subject merchandise at less than NV in the future, and agreed to the immediate reinstatement of the antidumping order, as long as any exporter or producer is subject to the order, if the Department concludes that, subsequent to the partial revocation, HZC/H&F has sold the merchandise at less than normal value. Based on the above facts, the Department determines that partial revocation of the order with respect to HZC/H&F is warranted. Therefore, in accordance with 19 CFR 351.222(f)(3), we will terminate suspension of liquidation for any merchandise manufactured and exported by HZC/H&F entered, or withdrawn from warehouse, for consumption on or after February 1, 2003.

Final Results of Review

We determine that the following percentage weighted-average margin exists for the period February 1, 2002 through January 31, 2003:

Manufacturer/exporter | Time Period | Margin
H&F/HZC | 02/01/02 - 01/31/03 | 0.00 percent

Because the weighted-average dumping margin is zero, we will instruct U.S. Customs and Border Protection to liquidate entries made during this review period without regard to antidumping duties for the subject merchandise that was manufactured and exported by H&F/HZC.

Cash Deposit Requirements

The following deposit requirements shall be effective upon publication of this notice of final results of administrative review for all shipments of MTPs from Japan entered, or withdrawn from warehouse, for consumption on or after the date of publication, as provided by section 751(a)(1) of the Act: (1) cash deposits for HZC/H&F will no longer be required and the suspension of liquidation will cease for subject merchandise manufactured and exported by HZC/H&F on or after February 1, 2003; (2) for previously reviewed or investigated companies not listed above, the cash deposit rate will continue to be the company-specific rate established for the most recent period; (3) if the exporter is not a firm covered in this review, a prior review, or the original less-than-fair value investigation (LTFV), but the manufacturer is, the cash deposit rate will be the rate established for the most recent period for the manufacturer of the merchandise; and, (4) for all other producers and/or exporters of this merchandise, the cash deposit rate shall be the “all-others” rate established in the LTFV investigation, which is 14.51 percent. See Notice of Final Determination of Sales at Less Than Fair Value and Antidumping Duty Order: Mechanical Transfer Presses from Japan, 55 FR 5642 (February 16, 1990). These deposit requirements shall remain in effect until publication of the final results of the next administrative review.

Notification to Interested Parties

This notice also serves as a final reminder to importers of their responsibility under section 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO as explained in the administrative order itself. Timely written notification of the return/destruction of APO materials or conversion to judicial protective order is hereby requested. Failure to comply with the regulations and terms of an APO is a sanctionable violation.

This administrative review and notice are in accordance with sections 751(a)(3)(A) and 777(i)(1) of the Act.

Dated: July 14, 2004.
James J. Jochum,
Assistant Secretary for Import Administration.

[FR Doc. 04-16741 Filed 7-21-04; 8:45 am]

BILLING CODE 3510-DS-S